FEDERAL COMMUNICATIONS COMMISSION

[FR ID 36216]

Privacy Act of 1974; System of Records

AGENCY: Federal Communications Commission.

ACTION: Notice of a modified System of Records.

SUMMARY: The Federal Communications Commission (FCC, Commission, or Agency) has modified an existing system of records, FCC/OMD-32, FCC Telework Program, subject to the Privacy Act of 1974, as amended. This action is necessary to meet the requirements of the Privacy Act to publish in the Federal Register notice of the existence and character of records maintained by the Agency. The FCC Telework Program provides employees with the voluntary opportunity to work from home or another FCC approved telework location. The records in this system contain personally identifiable information from employees including employment information such as title, grade, series, bureau or office, supervisory chain; work contact information; alternate worksite information, including address and contact information at an alternate worksite; and justification documentation for requests for long-distance or fulltime telework that describe a temporary employee hardship. The FCC uses the information to manage the telework program, including conducting audits and reports.

DATES: This system of records will become effective on July 8, 2021. Written comments on the routine uses are due by August 9, 2021. The routine uses will become effective on August 9, 2021, unless written comments are received that require a contrary determination.

ADDRESSES: Send comments to Margaret Drake, at privacy@fcc.gov, or at Federal Communications Commission (FCC), 45 L Street NE, Washington, DC 20554 at (202) 418-1707.

FOR FURTHER INFORMATION CONTACT: Margaret Drake, (202) 418-1707, or privacy@fcc.gov, Office of the General Counsel, Federal Communications Commission, 45 L Street NE, Washington, DC 20554 (and to obtain a copy of the Narrative Statement, which includes details of the modifications to this system of records).

SUPPLEMENTARY INFORMATION: FCC/OMD-32 contains personally identifiable information from employees including employment information such as title, grade, series, bureau or office, supervisory chain; work contact information; alternate worksite information, including address and contact information at an alternate worksite; and justification documentation for requests for long-distance or fulltime telework that describe a temporary employee hardship. The FCC uses the information to manage the telework program, including conducting audits and reports. This notice serves to modify FCC/OMD-32 to reflect various necessary changes and updates, including format changes required by OMB Circular A-108 since its previous publication, edits to existing routine uses, deleting five routine uses, and the addition of three routine uses, two of which address data breaches, as required by OMB Memorandum M-17-12. The substantive changes and modification to the previously published version of FCC/OMD-32 include:

1. Updating the Security Classification to follow OMB and FCC guidance.

2. Updating the System Location to show the FCC's new headquarters address.

3. Renumbering and revising language in eight Routine Uses: (1) FCC Program Management, (2) Labor Relations, (3), General Services Administration, (4) U.S. Department of Labor, (5) Congressional Inquiries, (6) Government-wide Program Management and Oversight, (7) Law Enforcement and Investigation, (8) Adjudication and Litigation.

4. Deleting five existing Routine Uses: (2) FCC Contractors; (9) Department of Justice; (10) Breach of Federal Data; (12) Employment, Clearances, Licensing, Contract, Grant, or other Benefits Decisions by the agency; and (13) Employment, Clearances, Licensing, Contract, Grant, or other Benefits Decisions by other than the agency.

5. Adding three new Routine Uses: (9) Breach Notification, to allow how the FCC addresses information breaches at the Commission; (10) Assistance to Federal Agencies and Entities, to allow the FCC to provide assistance to other Federal agencies in their data breach situations; and (11) For Non-Federal Personnel, to allow contractors performing or working on a contract for the Federal Government access to information in this system. New Routine Uses (9) and (10) are required by OMB Memorandum M-17-12.

6. Replacing the Disclosures to Consumer Reporting section with a new Reporting to a Consumer Reporting Agency section to address valid and overdue debts owed by individuals to the FCC under the Debt Collection Act, as recommended by OMB.

7. Adding a History section referencing the previous publication of this SORN in the Federal Register, as required by OMB Circular A-108.

The system of records is also updated to reflect various administrative changes related to the policy and practices for storage of the information; administrative, technical, and physical safeguards; and updated notification, records access, and procedures to contest records.

SYSTEM NAME AND NUMBER:

FCC/OMD-32, FCC Telework Program.

SECURITY CLASSIFICATION:

Unclassified.

SYSTEM LOCATION:

Human Resources Management (HRM), Office of Managing Director (OMD), Federal Communications Commission (FCC), 45 L Street NE, Washington, DC 20554.

SYSTEM MANAGER(S):

Human Resources Management (HRM), Office of Managing Director (OMD), Federal Communications Commission (FCC), 45 L Street NE, Washington, DC 20554.

AUTHORITY FOR MAINTENANCE OF THE SYSTEM:

5 U.S.C. 5711; 5 U.S.C. 6501-6506; 5 U.S.C. 6501 note; 5 U.S.C. 6120 note.

PURPOSE(S):

The FCC Telework Program provides employees with the voluntary opportunity to work from home or another FCC approved telework location. The FCC uses the information in this system to manage the telework program, including conducting and audits and reports.

CATEGORIES OF INDIVIDUALS COVERED BY THE SYSTEM:

Current and former Federal Communications Commission (FCC) staff, including employees and interns.

CATEGORIES OF RECORDS IN THE SYSTEM:

The records in this system contain personally identifiable information from employees including employment information such as title, grade, series, bureau or office, supervisory chain; work contact information; alternate worksite information, including address and contact information at an alternate worksite; and justification documentation for requests for long-distance or fulltime telework that describe a temporary employee hardship.

RECORD SOURCE CATEGORIES:

This system of records includes information provided by an individual on whom the record is maintained, and supervisors and managers.

ROUTINE USES OF RECORDS MAINTAINED IN THE SYSTEM, INCLUDING CATEGORIES OF USERS AND THE PURPOSES OF SUCH USE:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows:

1. FCC Program Management—To FCC's HRM and supervisory staff as part of their duties associated with the management and operation of the FCC Telework Program. This information may be used to conduct audits, evaluations, and/or investigations of the telework program to prevent waste, fraud, and abuse; ensure compliance with program and FCC policies and procedures; and inform future program development and implementation. This information may be shared with the Office of Inspector General (OIG).

2. Labor Relations—To officials of labor organizations recognized under 5 U.S.C. Chapter 71 consistent with provisions in an effective collective bargaining agreement or upon receipt of a formal request and in accord with the conditions of 5 U.S.C. 7114 when relevant and necessary to their duties of exclusive representation concerning personnel policies, practices, and matters affecting working conditions.

3. General Services Administration (GSA)—To GSA when FCC employees use a GSA approved alternate worksite for purposes such as security regulations, facilities management (including facility space allocation and management requirements, staffing requirements, and related work-space arrangements), and/or other GSA function(s); or when an emergency at the FCC headquarters and/or FCC facilities requires FCC employees to relocate to a GSA approved alternate worksite(s).

4. U.S. Department of Labor—To the U.S. Department of Labor (DOL) for telework labor management issues, including worker's compensation and workplace safety issues.

5. Congressional Inquiries—To provide information to a Congressional office from the record of an individual in response to an inquiry from that Congressional office made at the written request of that individual.

6. Government-wide Program Management and Oversight—To disclose information to the Department of Justice (DOJ) to obtain that department's advice regarding disclosure obligations under the Freedom of Information Act (FOIA); to the Office of Management and Budget (OMB) to obtain that office's advice regarding obligations under the Privacy Act; or to the Office of Personnel Management for its government-wide oversight of telework.

7. Law Enforcement and Investigation—To disclose pertinent information to the appropriate Federal, State, local, or tribal agency responsible for investigating, prosecuting, enforcing, or implementing a statute, rule, regulation, or order, where the FCC becomes aware of an indication of a violation or potential violation of civil or criminal law or regulation.

8. Adjudication and Litigation—To disclose information to the Department of Justice (DOJ), or to other administrative or adjudicative bodies before which the FCC is authorized to appear, when: (a) The FCC or any component thereof; (b) any employee of the FCC in his or her official capacity; (c) any employee of the FCC in his or her individual capacity where the DOJ or the FCC have agreed to represent the employee; or (d) the United States is a party to litigation or has an interest in such litigation, and the use of such records by the DOJ or the FCC is deemed by the FCC to be relevant and necessary to the litigation.

9. Breach Notification—To appropriate agencies, entities, and persons when: (a) The Commission suspects or has confirmed that there has been a breach of data maintained in the system of records; (b) the Commission has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

10. Assistance to Federal Agencies and Entities—To another Federal agency or Federal entity, when the Commission determines that information from this system is reasonably necessary to assist the recipient agency or entity in: (a) Responding to a suspected or confirmed breach or (b) preventing, minimizing, or remedying the risk of harm to individuals, the recipient agency or entity (including its information systems, programs, and operations), the Federal Government, or national security, resulting from a suspected or confirmed breach.

11. For Non-Federal Personnel—To disclose information to non-Federal personnel, i.e., contractors, performing or working on a contract in connection with human resources management and/or IT services for the Federal Government, who may require access to this system of records.

REPORTING TO A CONSUMER REPORTING AGENCIES:

In addition to the routine uses cited above, the Commission may share information from this system of records with a consumer reporting agency regarding an individual who has not paid a valid and overdue debt owed to the Commission, following the procedures set out in the Debt Collection Act, 31 U.S.C. 3711(e).

POLICIES AND PRACTICES FOR STORAGE OF RECORDS:

The information pertaining to the FCC Telework Program includes electronic records, files, and data and paper documents, records, and files. HRM manage these electronic data and paper document files:

1. The electronic data will be stored in the computer files housed in the FCC's computer network.

2. The paper records are scanned and uploaded to the electronic system before being destroyed.

POLICIES AND PRACTICES FOR RETRIEVAL OF RECORDS:

The records may be retrieved by various identifiers, including the individual's name or bureau or office.

POLICIES AND PRACTIES FOR RETENTION AND DISPOSAL OF RECORDS:

The National Archives and Records Administration (NARA) established records schedule number DAA-GRS-2018-0002-004 for telework/alternate worksite program case files. In accordance with this records schedule, the FCC will maintain information in this system of records until superseded or obsolete, or one year after the end of an employee's participation in the program, whichever is sooner, or longer if required for business use.

ADMINISTRATIVE, TECHNICAL, AND PHYSICAL SAFEGUARDS:

The electronic records, files, and data are stored within FCC accreditation boundaries and maintained in a database housed in the FCC's computer network databases. Access to the electronic files is restricted to authorized supervisors and managers; OMD employees and contractors; and to IT staff, contractors, and vendors who maintain the IT networks and services. Other FCC employees and contractors may be granted access on a need-to-know basis. The FCC's electronic files and records are protected by the FCC and third-party privacy safeguards, a comprehensive and dynamic set of IT safety and security protocols and features that are designed to meet all Federal IT privacy standards, including those required by the Federal Information Security Modernization Act of 2014 (FISMA), the Office of Management and Budget (OMB), and the National Institute of Standards and Technology (NIST). The paper records are scanned and uploaded to the electronic system before being destroyed.

RECORD ACCESS PROCEDURES:

Individuals wishing to request access to and/or amendment of records about themselves should follow the Notification Procedure below.

CONTESTING RECORD PROCEDURES:

Individuals wishing to request access to and/or amendment of records about themselves should follow the Notification Procedure below.

NOTIFICATION PROCEDURE:

Individuals wishing to determine whether this system of records contains information about themselves may do so by writing Privacy@fcc.gov. Individuals requesting access must also comply with the FCC's Privacy Act regulations regarding verification of identity to gain access to records as required under 47 CFR part 0, subpart E.

EXEMPTIONS CLAIMED FOR THE SYSTEM:

None.

HISTORY:

The FCC previously gave full notice of FCC/OMD-32, FCC Telework Program by publication in the Federal Register on March 26, 2015 (80 FR 16007).

Federal Communications Commission.
Marlene Dortch,
Secretary, Office of the Secretary.

[FR Doc. 2021-14493 Filed 7-7-21; 8:45 am]

BILLING CODE 6712-01-P